DEPARTMENT OF COMMERCE

National Oceanic and Atmospheric Administration

Agency Information Collection Activities; Submission to the Office of Management and Budget (OMB) for Review and Approval; Comment Request; Fishery Products Subject to Trade Restrictions Pursuant to Provisions of the High Seas Driftnet Fishing Moratorium Protection Act

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on March 17, 2025, during a 60-day comment period. This notice allows for an additional 30 days for public comments.

Agency: National Oceanic and Atmospheric Administration, Commerce.

Title: Fishery Products Subject to Trade Restrictions Pursuant to provisions of the High Seas Driftnet Fishing Moratorium Protection Act or Marine Mammals Protection Act.

OMB Control Number: 0648-0651.

Form Number(s): None.

Type of Request: Regular submission (extension of a currently approved information collection).

Number of Respondents: 100 respondents annually filing 50 responses each.

Average Hours per Response: 10 minutes.

Total Annual Burden Hours: 833.

Needs and Uses: This is a request for extension of an approved information collection for Fishery Products Subject to Trade Restrictions Pursuant to Certification Under the High Seas Driftnet Fishing Moratorium Protection Act (Moratorium Protection Act) or the Marine Mammal Protection Act (MMPA).

The National Marine Fisheries Service's (NMFS) Office of International Affairs, Trade, and Commerce requests extension of the information collection involving Certification of Admissibility for the importation of certain fish and fish products that are subject to requirements of the Moratorium Protection Act or the MMPA.

The purpose of this information collection is to enable the continued flow of trade while adhering to existing statutory requirements. Pursuant to the Moratorium Protection Act, certain fish or fish products of a nation may be subject to import prohibitions. To facilitate enforcement, NMFS requires that other fish or fish products from that nation that are not subject to the import prohibitions must be accompanied by documentation of admissibility. A duly authorized official/agent of the applicant's Government must certify that the fish in the shipments being imported into the United States (U.S.) are of a species, or from fisheries, that are not subject to an import restriction. If a nation is identified under the Moratorium Protection Act and fails to receive a positive certification decision from the Secretary of Commerce, products from that nation may be subject to the import prohibitions and would subsequently need to be accompanied by the certificate of admissibility.

Under the MMPA, import certification requirements apply in collection-of-information requirement (Control Number 0648-0732) cases where foreign fisheries do not meet U.S. standards for marine mammal bycatch mitigation. Final rule (RIN 0648-AY15) implemented a procedure for making comparability findings for nations that are eligible for exporting fish and fish products to the United States. The nations may receive a comparability finding to export fish and fish products by providing documentation that a nation's bycatch reduction regulatory program is comparable in effectiveness to that of the United States. Fish and fish products from a foreign fishery without a comparability finding are prohibited from entry into U.S. commerce. To facilitate enforcement, NMFS requires that other fish or fish products from that nation that are not subject to the import prohibitions must be accompanied by documentation of admissibility.

Information collected under the Certification of Admissibility process is used by the United States Customs and Border Protection authorities to determine that inbound seafood shipments are not subject to trade restrictions. NMFS uses the information to ensure compliance with fish product trade restrictions and to assess compliance with international fishery management regulations.

Affected Public: Business or other for-profit organizations.

Frequency: Dependent upon the import rate of fish or fish products subject to prohibition(s).

Respondent's Obligation: Required to Obtain or Retain Benefits.

Legal Authority: 50 CFR part 216; 50 CFR part 300, subpart N.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0651.

Sheleen Dumas,
Departmental PRA Compliance Officer, Office of the Under Secretary for Economic Affairs, Commerce Department.

[FR Doc. 2025-10458 Filed 6-9-25; 8:45 am]

BILLING CODE 3510-22-P